DEPARTMENT OF VETERANS AFFAIRS

[OMB Control No. 2900-0060]

Agency Information Collection Activities Under OMB Review

AGENCY: Veterans Benefits Administration, Department of Veterans Affairs.

ACTION: Notice.

SUMMARY: In compliance with the Paperwork Reduction Act (PRA) of 1995 (44 U.S.C., 3501 et seq.), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before March 13, 2002.

FOR FURTHER INFORMATION OR A COPY OF THE SUBMISSION CONTACT: Denise McLamb, Information Management Service (045A4), Department of Veterans Affairs, 810 Vermont Avenue, NW, Washington, DC 20420, (202) 273-8030, FAX (202) 273-5981 or e-mail: denise.mclamb@mail.va.gov. Please refer to “OMB Control No. 2900-0060.”

SUPPLEMENTARY INFORMATION: Titles:

a. Claim For Government Life Insurance Policy, VA Form Letter 29-764.

b. Claim For One Sum Payment (Government Life Insurance), VA Form 29-4125.

c. Claim For Monthly Payments (National Service Life Insurance), VA Form 29-4125a.

d. Claim For One Sum Payment (Govt. Life Insurance All Prefixes), VA Form 29-4125b.

e. Claim For Monthly Payments (US Govt. Life Insurance), VA Form 29-4125k.

OMB Control Number: 2900-0060.

Type of Review: Extension of a currently approved collection.

Abstract: VA forms and form letter are used by beneficiaries to apply for proceeds of Government Insurance policies. The collected information is used by VA to process beneficiaries claim for payment of insurance proceeds.

An agency may not conduct or sponsor, and a person is not required to respond to a collection of information unless it displays a currently valid OMB control number. The Federal Register Notice with a 60-day comment period soliciting comments on this collection of information was published on July 19, 2001, at pages 37724-37725.

Affected Public: Individuals or households.

Estimated Annual Burden: 8,938 hours.

a. FL 29-764—100 hours.

b. VA Form 29-4125—8,200 hours.

c. VA Form 29-4125a—463 hours.

d. VA Form 29-4125b—50 hours.

e. VA Form 4125k—125 hours.

Estimated Average Burden Per Respondent:

a. FL 29-764—6 minutes.

b. VA Form 29-4125—6 minutes.

c. VA Form 29-4125a—15 minutes.

d. VA Form 29-4125b—6 minutes. e.VA Form 4125k—15 minutes.

Frequency of Response: On occasion.

Estimated Number of Respondents: 85,850.

a. FL 29-764—1,000.

b. VA Form 29-4125—82,000.

c. VA Form 29-4125a—1,850.

d. VA Form 29-4125b—500.

e. VA Form 4125k—500.

Send comments and recommendations concerning any aspect of the information collection to VA's OMB Desk Officer, OMB Human Resources and Housing Branch, New Executive Office Building, Room 10235, Washington, DC 20503 (202) 395-7316. Please refer to “OMB Control No. 2900-0060” in any correspondence.

Dated: January 18, 2002.
By direction of the Secretary.
Barbara H. Epps,
Management Analyst, Information Management Service.

[FR Doc. 02-3143 Filed 2-8-02; 8:45 am]

BILLING CODE 8320-01-P